DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate and Notice of Availability of Final Findings.

SUMMARY: The NOAA Office of Ocean and Coastal Resource Management (OCRM) announces its intent to evaluate the performances of the Ashepoo-Combahee-Edisto (ACE) Basin (South Carolina) National Estuarine Research Reserve, the Jobos Bay (Puerto Rico) National Estuarine Research Reserve, the North Carolina Coastal Management Program, and the Commonwealth of the Northern Mariana Islands (CNMI) Coastal Management Program.

The Coastal Zone Management Program evaluations will be conducted pursuant to section 312 of the Coastal Zone Management Act of 1972, as amended (CZMA) and regulations at 15 CFR Part 923, Subpart L. The National Estuarine Research Reserve evaluations will be conducted pursuant to sections 312 and 315 of the CZMA and regulations at 15 CFR Part 921, Subpart E and Part 923, Subpart L. The CZMA requires continuing review of the performance of states with respect to coastal program implementation. Evaluation of Coastal Management Programs and National Estuarine Research Reserves requires findings concerning the extent to which a state has met the national objectives, adhered to its Coastal Management Program document or Reserve final management plan approved by the Secretary of Commerce, and adhered to the terms of financial assistance awards funded under the CZMA.

Each evaluation will include a site visit, consideration of public comments, and consultations with interested Federal, state, and local agencies and members of the public. A public meeting will be held as part of the site visit. Notice is hereby given of the dates of the site visits for the listed evaluations, and the dates, local times, and locations of the public meeting during the site visits.

The ACE Basin (South Carolina) National Estuarine Research Reserve evaluation site visit will be held January 30-February 3, 2006. One public meeting will be held during the week. The public meeting will be held on Tuesday, January 31, 2006, at 6:30 p.m. at the Edisto Interpretive Center, Edisto Beach State Park, 8377 State Cabin Road, Edisto Island, South Carolina.

The Jobos Bay (Puerto Rico) National Estuarine Research Reserve (NERR) evaluation site visit will be held January 30-February 3, 2006. One public meeting will be held during the week. The public meeting will be held on Wednesday, February 1, 2006, at 5 p.m. at the Jobos Bay NERR Visitors' Center, Road 705, Kilometer 2.3, Main Street, Aguirre, Puerto Rico.

The North Carolina Coastal Management Program evaluation site visit will be held February 6-10, 2006. Three public meetings will be held during the week. The first public meeting will be held on Monday, February 6, 2006, at 6 p.m. at the North Carolina Department of Environment and Natural Resources, Wilmington Regional Office, Room 200, 127 Cardinal Drive Extension, Wilmington, North Carolina. The second public meeting will be held on Tuesday, February 7, 2006, at 6 p.m. at the Carteret County Courthouse, Commissioners Boardroom, One Courthouse Square, Beaufort, North Carolina. The third public meeting will be held on Wednesday, February 8, 2006, at 6 p.m. at the Dare County Commissioners Office, 204 Ananias Dare Street, Manteo, North Carolina.

The CNMI Coastal Management Program evaluation site visit will be held February 13-17, 2006. One public meeting will be held during the week. The public meeting will be held on Tuesday, February 14, 2006, at 5 p.m. at the Coastal Resource Management Office, First Floor Conference Room, Morgen Building, San Jose, Saipan.

Copies of states' most recent performance reports, as well as OCRM's evaluation notification and supplemental information request letters to the states, are available upon request from OCRM. Written comments from interested parties regarding these Programs are encouraged and will be accepted until 15 days after the public meeting held for a Program. Please direct written comments to Ralph Cantral, Chief, National Policy and Evaluation Division, Office of Ocean and Coastal Resource Management, NOS/NOAA, 1305 East-West Highway, 10th Floor, N/ORM7, Silver Spring, Maryland 20910. When the evaluations are completed, OCRM will place a notice in the Federal Register announcing the availability of the Final Evaluation Findings.

Notice is hereby given of the availability of the final evaluation findings for the Hawaii and Louisiana Coastal Management Programs (CMPs); and the Great Bay (New Hampshire) and Hudson River (New York) National Estuarine Research Reserves (NERRs). Sections 312 and 315 of the Coastal Zone Management Act of 1972 (CZMA), as amended, require a continuing review of the performance of coastal states with respect to approval of CMPs and the operation and management of NERRs.

The states of Hawaii and Louisiana were found to be implementing and enforcing their federally approved coastal management programs, addressing the national coastal management objectives identified in CZMA Section 303(2)(A)-(K), and adhering to the programmatic terms of their financial assistance awards. The Great Bay (New Hampshire) and Hudson River (New York) NERRs were found to be adhering to programmatic requirements of the NERR System.

Copies of these final evaluation findings may be obtained upon written request from: Ralph Cantral, Chief, National Policy and Evaluation Division, Office of Ocean and Coastal Resource Management, NOS/NOAA, 1305 East-West Highway, 10th Floor, N/ORM7, Silver Spring, Maryland 20910, or Ralph.Cantral@noaa.gov.

FOR FURTHER INFORMATION CONTACT: Ralph Cantral, Chief, National Policy and Evaluation Division, Office of Ocean and Coastal Resource Management, NOS/NOAA, 1305 East-West Highway, 10th Floor, N/ORM7, Silver Spring, Maryland 20910, (301) 563-7118.

Dated: December 16, 2005.
Mitchell Luxenberg,
Acting Chief Financial Officer.
Federal Domestic Assistance Catalog 11.419 Coastal Zone Management Program Administration

[FR Doc. 05-24391 Filed 12-22-05; 8:45 am]

BILLING CODE 3510-08-P